DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the applications described herein.

DATES: Comments must be received on or before March 26, 2025.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on February 19, 2025.
T Glenn Foster,
Chief, Regulatory Review and Reinvention Branch Office of Hazardous Materials Safety, Pipeline and Hazardous Materials Safety Administration.

Special Permits Data
Application No. | Applicant | Regulation(s) affected | Nature of the special permits thereof
21924-N | Antech Systems, Inc | 180.205(g) | To authorize composite overwrapped pressure vessels that have been requalified using Modal Acoustic Emission (MAE) in lieu of the internal visual inspection and hydrostatic test. (modes 1, 2, 3, 4, 5).
21932-N | Enervenue, Inc | 173.302(a)(1) | To authorize the transport of individual nickel-hydrogen batteries. (modes 1, 2, 3, 4, 5).
21933-N | Seattle Children's Hospital | 173.199(a)(4), 173.199 | To authorize the transportation in commerce of live rodents infected with a Category B infectious substance. (mode 1).
21937-N | Apex Water and Process Inc | 172.203(a), 172.302(c), 177.834(h) | To authorize the discharge of liquid hazardous materials from certain UN Intermediate Bulk Containers (IBCs) and DOT Specification 57 portable tanks without removing them from the vehicle on which they are transported. (mode 1).
21938-N | Amazon.com, Inc | 172.101, 172.102, 172.400, 172.300, 173.27(b)(2), 173.301(f), 173.302a, 173.304a | To authorize the transportation in commerce of non-DOT specification containers (satellite assemblies) containing lithium ion batteries and certain Division 2.2 and 2.3 liquefied, with alternative hazard communication. (modes 1, 4).

[FR Doc. 2025-02973 Filed 2-21-25; 8:45 am]

BILLING CODE P